ENVIRONMENTAL PROTECTION AGENCY

[FRL-8533-5]

Science Advisory Board Staff Office; Clean Air Scientific Advisory Committee (CASAC); Notification of a Public Advisory Committee Meeting and Teleconference of the CASAC Oxides of Nitrogen (NOX) & Sulfur Oxides (SOX) Secondary NAAQS Review Panel

AGENCY: Environmental Protection Agency (EPA).

ACTION: Notice.

SUMMARY: The Environmental Protection Agency (EPA) Science Advisory Board (SAB) Staff Office announces a public meeting of the Clean Air Scientific Advisory Committee Oxides of Nitrogen (NOX) and Sulfur Oxides (SOX) Secondary National Ambient Air Quality Standards (NAAQS) Review Panel (CASAC Panel) and a public teleconference of the chartered CASAC. The CASAC Panel will conduct a peer review of EPA's Draft Integrated Science Assessment for Oxides of Nitrogen and Sulfur—Environmental Criteria (First External Review Draft) (EPA/600/R-07/145, December 2007) and a consultation on the EPA's draft Scope and Methods Plan for Risk/Exposure Assessment: Secondary NAAQS Review for Oxides of Nitrogen and Oxides of Sulfur. The chartered CASAC will review and approve the Panel's report by public teleconference.

DATES: The CASAC Panel will meet from 8:30 a.m. on Wednesday, April 2, 2008 through 4 p.m. Thursday, April 3, 2008 (Eastern Time). The chartered CASAC will meet by public teleconference at 10 a.m. on Monday, May 5, 2008 (Eastern Time).

ADDRESSES: The April 2-3, 2008 public meeting, will take place at the Marriott at Research Triangle Park, 4700 Guardian Drive, Durham, NC 27703, telephone: (919) 941-6200. The May 5, 2008 public teleconference, will be conducted by phone only.

FOR FURTHER INFORMATION CONTACT: Any member of the public who wants further information concerning the April 2-3, 2008 meeting, may contact Ms. Kyndall Barry, Designated Federal Officer (DFO), EPA Science Advisory Board (1400F), U.S. Environmental Protection Agency, 1200 Pennsylvania Avenue, NW., Washington, DC 20460; via telephone/voice mail: (202) 343-9868; fax: (202) 233-0643; or e-mail at: barry.kyndall@epa.gov. For information on the CASAC teleconference on May 5, 2008, please contact Mr. Fred Butterfield, Designated Federal Officer (DFO), at the above listed address; via telephone/voice mail: (202) 343-9994 or e-mail at: butterfield.fred@epa.gov. General information concerning the CASAC can be found on the EPA Web site at: http://yosemite.epa.gov/sab/sabpeople.nsf/WebCommittees/CASAC.

SUPPLEMENTARY INFORMATION: Background: The Clean Air Scientific Advisory Committee (CASAC) was established under section 109(d)(2) of the Clean Air Act (CAA or Act) (42 U.S.C. 7409) as an independent scientific advisory committee. CASAC provides advice, information and recommendations on the scientific and technical aspects of air quality criteria and national ambient air quality standards (NAAQS) under sections 108 and 109 of the Act. The CASAC is a Federal advisory committee chartered under the Federal Advisory Committee Act (FACA), as amended, 5 U.S.C., App. The Panel will comply with the provisions of FACA and all appropriate SAB Staff Office procedural policies.

Section 109(d)(1) of the CAA requires that the Agency periodically review and revise, as appropriate, the air quality criteria and the NAAQS for the six “criteria” air pollutants, including NOX and SOX. EPA published the Integrated Review Plan for the Secondary National Ambient Air Quality Standards for Nitrogen Dioxide and Sulfur Dioxide (Final) in December 2007. The CASAC Panel provided a consultation on the draft Plan in October 2007: (http://yosemite.epa.gov/sab/sabproduct.nsf/77B813F50BDD96C1852573A70005BAF3/$File/casac-08-003.pdf). EPA's Office of Research and Development (ORD) has completed the Draft Integrated Science Assessment for Oxides of Nitrogen and Sulfur—Environmental Criteria (ISA) and EPA's Office of Air and Radiation (OAR) will also release a Scope and Methods Plan for Risk/Exposure Assessment. The purpose of the April 2-3, 2008 meeting, is for the CASAC Panel to provide advice on these two documents. The chartered CASAC will meet by conference call to review and approve the Panel's draft report on the ISA.

Technical Contacts: Any questions concerning EPA's Draft Integrated Science Assessment for Oxides of Nitrogen and Sulfur—Environmental Criteria (First External Review Draft) should be directed to Dr. Tara Greaver, ORD, at (919) 541-2435 or greaver.tara@epa.gov. Any questions concerning EPA's Scope and Methods Plan for Risk/Exposure Assessment: Secondary NAAQS Review for Oxides of Nitrogen and Oxides of Sulfur should be directed to Dr. Anne Rea, OAR, at (919) 541-0053 or rea.anne@epa.gov.

Availability of Meeting Materials: EPA-ORD's Draft Integrated Science Assessment for Oxides of Nitrogen and Sulfur—Environmental Criteria (First External Review Draft) can be accessed at http://www.epa.gov/ttn/naaqs/standards/no2so2sec/cr_pd.html. EPA-OAR's Scope and Methods Plan for Risk/Exposure Assessment: Secondary NAAQS Review for Oxides of Nitrogen and Oxides of Sulfur will be accessible at http://www.epa.gov/ttn/naaqs/standards/no2so2sec/cr_pd.html. The agenda and other materials for this CASAC teleconference will be posted on the SAB Web site at: http://www.epa.gov/sab prior to the meeting.

Procedures for Providing Public Input: Interested members of the public may submit relevant written or oral information for consideration on the topics included in this advisory activity.

Oral Statements: To be placed on the public speaker list for the April 2-3, 2008 meeting, interested parties should notify Ms. Kyndall Barry, DFO, by e-mail no later than March 28, 2008. Oral presentations will be limited to one-half hour for all speakers. To be placed on the public speaker list for the May 5, 2008 teleconference, interested parties should notify Mr. Fred Butterfield, DFO, by e-mail no later than May 1, 2008. Oral presentations will be limited to a total of 30 minutes for all speakers.

Written Statements: Written statements for the April 2-3, 2008 meeting should be received in the SAB Staff Office by March 28, 2008 so that the information may be made available to the CASAC Panel for its consideration prior to this meeting. For the teleconference meeting of the chartered CASAC on May 5, 2008, statements should be received in the SAB Staff Office by May 1, 2008. Written statements should be supplied to the appropriate DFO in the following formats: one hard copy with original signature and one electronic copy via e-mail (acceptable file formats: Adobe Acrobat PDF, MS Word, WordPerfect, MS PowerPoint, or Rich Text files in IBM-PC/Windows 98/2000/XP format).

Accessibility: For information on access or services for individuals with disabilities, please contact Ms. Barry at the phone number or e-mail address noted above, preferably at least ten days prior to the face-to-face meeting, to give EPA as much time as possible to process your request.

Dated: February 15, 2008.
Anthony F. Maciorowski,
Deputy Director, EPA Science Advisory Board Staff Office.

[FR Doc. E8-3613 Filed 2-25-08; 8:45 am]

BILLING CODE 6560-50-P